FEDERAL COMMUNICATIONS COMMISSION

[GN Docket No. 12-268; FCC 14-50]

Information Collection Approval for the Certification of TV Broadcast Licensee Technical Information in Advance of Incentive Auction

AGENCY: Federal Communications Commission.

ACTION: Announcement of approval date for information collection.

SUMMARY: In this document, the Commission announces that the Office of Management and Budget (OMB) approved on March 31, 2015, for a period for three years, an information collection for the FCC Certification of TV Broadcast Licensee Technical Information in Advance of Incentive Auction, FCC Form 2100, Schedule 381. With this document, the Commission is announcing OMB approval and the effective date of the information collection requirements for FCC Form 2100, Schedule 381.

DATES: FCC Form 2100, Schedule 381, was approved by OMB on March 31, 2015 and is effective on April 13, 2015.

FOR FURTHER INFORMATION CONTACT: For additional information contact Cathy Williams, Cathy.Williams@fcc.gov, (202) 418-2918.

SUPPLEMENTARY INFORMATION: This document announces that, on March 31, 2015, OMB approved the information collection requirements for the FCC Certification of TV Broadcast Licensee Technical Information in Advance of Incentive Auction, FCC Form 2100, Schedule 381, published at 79 FR 48442 on August 15, 2014. The OMB Control Number is 3060-1206. The Commission publishes this document as an announcement of the effective date of the requirements. If you have any comments on the burden estimates listed below, or how the Commission can improve the collections and reduce any burdens caused thereby, please contact Cathy Williams, Federal Communications Commission, Room 1-C823, 445 12th Street, SW., Washington, DC 20554. Please include the OMB Control Number, 3060-1206, in your correspondence. The Commission will also accept your comments via the Internet if you send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on March 31, 2015, for the information collection requirements contained in the information collection 3060-1206.

Under 5 CFR 1320, an agency may not conduct or sponsor a collection of information unless it displays a current, valid OMB Control Number.

No person shall be subject to any penalty for failing to comply with a collection of information subject to the Paperwork Reduction Act that does not display a current, valid OMB Control Number. The OMB Control Number is 3060-1206. The foregoing document is required by the Paperwork Reduction Act of 1995, Pub. L. 104-13, October 1, 1995, and 44 U.S.C. 3507.

The total annual reporting burdens and costs for the respondents are as follows:

OMB Control Number: 3060-1206.

OMB Approval Date: March 31, 2015.

OMB Expiration Date: March 31, 2018.

Title: Certification of TV Broadcast Licensee Technical Information in Advance of Incentive Auction.

Form No.: FCC Form 2100, Schedule 381, Pre-Auction Technical Certification Form.

Respondents: Business or other for profit entities; Not for profit institutions.

Number of Respondents and Responses: 2,170 respondents and 2,170 responses.

Estimated Time Per Response: 2 hours.

Frequency of Response: One-time reporting requirement.

Obligation to Respond: Required to obtain or retain benefits. The statutory authority for this collection is contained in Pub. L. 112-96, sections 6402 (codified at 47 U.S.C. 309(j)(8)(G)), 6403 (codified at 47 U.S.C. 1452), 126 Stat. 156 (2012) (Spectrum Act).

Total Annual Burden: 2,170 hours.

Total Annual Cost: $542,500.

Privacy Act Impact Assessment: No impact(s).

Nature and Extent of Confidentiality: Some assurances of confidentiality are being provided to the respondents. Parties filing Form 2100, Schedule 381 may seek confidential treatment of information they provide pursuant to the Commission's existing confidentiality rules (See 47 CFR 0.459).

Needs and Uses: The information gathered in this collection will be used to support the Federal Communications Commission's efforts to hold an incentive auction, as required by the Middle Class Tax Relief and Job Creation Act of 2012 (Spectrum Act) (Pub. L. 112-96, sections 6402 (codified at 47 U.S.C. 309(j)(8)(G)), 6403 (codified at 47 U.S.C. 1452), 126 Stat. 156 (2012)). In the Incentive Auction Order, the Commission directed the Media Bureau to develop a form to be submitted prior to the incentive auction by each full power and Class A broadcast licensee to certify that it has reviewed the technical data on file with the Commission related to its current license authorization and confirm that the technical data is correct with respect to actual operations FCC Form 2100, Schedule 381, Pre-Auction Technical Certification Form. See Expanding the Economic and Innovation Opportunities of Spectrum Through Incentive Auctions, Report and Order, GN Docket 12-268, Report and Order, 29 FCC Rcd 6567, 6820 (2014) (“Incentive Auction Order”). This data collection will also collect from licensees basic data regarding equipment currently in use at each licensed facility to facilitate the channel reassignment process following the completion of the incentive auction. Licensees will submit FCC Form 2100, Schedule 381 one time, at a deadline to be announced by the Media Bureau in advance of the incentive auction.

Federal Communications Commission.
Marlene H. Dortch,
Secretary.

[FR Doc. 2015-08178 Filed 4-10-15; 8:45 am]

BILLING CODE 6712-01-P